DEPARTMENT OF HEALTH AND HUMAN SERVICES

Centers for Disease Control and Prevention

Disease, Disability, and Injury Prevention and Control Special Emphasis Panel (SEP)—DP23-001, Panel A, Assessing the Effectiveness of Programs, Policies, or Practices That Affect Social Determinants of Health To Promote Health Equity and Reduce Health Disparities in Chronic Diseases; Amended Notice of Closed Meeting

Notice is hereby given of a change in the meeting of the Disease, Disability, and Injury Prevention and Control Special Emphasis Panel (SEP)—DP23-001, Panel A, Assessing the Effectiveness of Programs, Policies, or Practices that Affect Social Determinants of Health to Promote Health Equity and Reduce Health Disparities in Chronic Diseases; April 18, 2023, 10 a.m.-6 p.m., EDT, teleconference, in the original Federal Register notice. The meeting was published in the Federal Register on February 9, 2023, Volume 88, Number 27, page 8431.

The meeting is being amended to change the meeting date and should read as follows:

Date: April 21, 2023.

Time: 10 a.m.-6 p.m., EDT.

The meeting is closed to the public.

FOR FURTHER INFORMATION CONTACT: Natalie Brown, M.P.H., Scientific Review Officer, National Center for Chronic Disease Prevention and Health Promotion, CDC, 4770 Buford Highway, Mailstop S107-8, Atlanta, Georgia 30341-3717; Telephone: (404) 639-4601; Email: NBrown3@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-03568 Filed 2-21-23; 8:45 am]

BILLING CODE 4163-18-P